DEPARTMENT OF HOMELAND SECURITY

Coast Guard

33 CFR Part 165

[Docket No. USCG-2008-0044]

RIN 1625-AA00

Safety Zone; Milwaukee Harbor, Milwaukee, WI

AGENCY: Coast Guard, DHS.

ACTION: Notice of enforcement of final rule.

SUMMARY: The Coast Guard will enforce the Milwaukee Harbor Safety Zone in Milwaukee Harbor during June 2008. This action is necessary to protect vessels and people from the hazards associated with fireworks displays. This safety zone will restrict vessel traffic from portions of the Captain of the Port Lake Michigan Zone.

DATES: Effective between June 7, 2008 and August 17, 2008.

FOR FURTHER INFORMATION CONTACT: Lieutenant Commander Kimber Bannan, Prevention Department, Coast Guard Sector, Lake Michigan, Milwaukee, WI at (414) 747-7159.

SUPPLEMENTARY INFORMATION: The Coast Guard will enforce Safety Zones, Milwaukee Harbor, Milwaukee, WI, 33 CFR 165.935 for the following events:

(1) Pride Fest fireworks display on June 07, 2008 from 9 p.m. through 10 p.m.; and

(2) Polish Fest fireworks display on June 20-21, 2008 from 10 p.m. through 11 p.m.; and

(3) Summerfest fireworks display on June 26, 2008 from 10 p.m. through 11 p.m.; and

(4) Festa Italiana fireworks display on July 17-20, 2008 from 10 p.m. through 11 p.m.; and

(5) German Fest fireworks display on July 27, 2008 from 10 p.m. through 11 p.m.; and

(6) Arab World Fest fireworks display on August 9, 2008 from 10 p.m. through 11 p.m.; and

(7) Irish Fest fireworks display on August 17, 2008 from 10 p.m. through 11 p.m.

All vessels must obtain permission from the Captain of the Port or his on-scene representative to enter, move within or exit the safety zone. Vessels and persons granted permission to enter the safety zone shall obey all lawful orders or directions of the Captain of the Port or a designated representative. While within a safety zone, all vessels shall operate at the minimum speed necessary to maintain a safe course.

This notice is issued under authority of 33 CFR 165.935 Safety Zone, Milwaukee Harbor, Milwaukee, WI (72 FR 32522) and 5 U.S.C. 552(a). In addition to this notice in the Federal Register, the Coast Guard will provide the maritime community with advance notification of these enforcement periods via broadcast Notice to Mariners or Local Notice to Mariners. The Captain of the Port will issue a Broadcast Notice to Mariners notifying the public when enforcement of the safety zone established by this section is suspended. The Captain of the Port may be contacted via U.S. Coast Guard Sector Lake Michigan on channel 16, VHF-FM.

Dated: May 22, 2008.
Bruce C. Jones,
Captain, U.S. Coast Guard, Captain of the Port Lake Michigan.

[FR Doc. E8-13107 Filed 6-16-08; 8:45 am]

BILLING CODE 4910-15-P